DEPARTMENT OF DEFENSE

Department of the Air Force

[Docket ID: USAF-2008-0061]

Privacy Act of 1974; System of Records

AGENCY: Department of Air Force, DoD.

ACTION: Notice to Amend Seven Systems of Records.

SUMMARY: The Department of Air Force proposes to amend seven systems of records to its inventory of record systems subject to the Privacy Act of 1974 (5 U.S.C. 552a), as amended.

DATES: The changes will be effective on January 30, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: December 23, 2008.
Morgan E. Frazier,
Alternate OSD Federal Register Liaison Officer, Department of Defense.

F051 AF JA A

System name:

Judge Advocate General's Professional Conduct Files (April 30, 2008, 73 FR 23434).

Changes:

Change System ID to “F051 AFJA E.”

* * * * *

F051 AFJA E

System name:

Judge Advocate General's Professional Conduct Files.

System location:

Office of the Professional Responsibility Administrator, Office of the Air Force Judge Advocate General, 1420 Air Force Pentagon, Washington, DC 20330-1420;

Army-Air Force Exchange Service Headquarters, General Counsel, P.O. Box 660202, Dallas, TX 75266-0202;

Defense Commissary Agency Headquarters, General Counsel, Building P11200, Fort Lee, VA 23801; and

Defense Logistics Agency, Judge Advocate, Alexandria, VA 22310-6130.

The Judge Advocate's office at headquarters of major commands, field operating offices, and unified commands. Official mailing addresses are published as an appendix to the Air Force's compilation of systems of records notices.

National Guard Bureau, Judge Advocate's Office (NGB/JA), 1411 Jefferson Davis Highway, Arlington, VA 22202.

Categories of individuals covered by the system:

Judge advocates (active duty, reserve, or guard), civilian attorneys employed by The Judge Advocate General's Corps and civilian attorneys subject to the disciplinary authority of The Judge Advocate General who have been the subject of a complaint related to their professional conduct.

Categories of records in the system:

Records include, but are not limited to name, address, social security number (SSN); complaints with substantiating documents; letters/transcriptions of complaints, allegations and queries; letters of appointment; reports of reviews, inquiries, and investigations with supporting attachments, exhibits and photographs; records of interviews; witness statements; recommendations; reports of legal reviews of case files; reports of Advisory Committee reviews; congressional responses; memoranda; letters and reports of findings and actions taken; letters to complainants and subjects of investigations; letters of rebuttal from subjects; financial, personnel, administrative, adverse information, and technical reports.

Authority for maintenance of the system:

10 U.S.C. 8037, Judge Advocate General, Deputy Judge Advocate General: Appointment and duties; RCM 109, Manual for Courts-Martial, 1984 and Executive Order 9397 (SSN).

Purpose(s):

To assist The Judge Advocate General in the evaluation, management, administration and regulation of the delivery of legal services by offices and personnel under his jurisdiction.

To ensure the proper qualifications for the practice of law are met and maintained by each attorney practicing under the direct or indirect supervision of The Judge Advocate General.

To ensure licensing agencies of the individual states (including the District of Columbia, Puerto Rico, Guam, American Samoa, the U.S. Virgin Islands and the Commonwealth of the Northern Mariana Islands), and the various courts that licensed Air Force attorneys are advised of adverse determinations documenting violations of the rules of professional responsibility affecting an attorney's fitness to practice law, this in an effort to protect the Air Force and the general public from substandard legal practitioners.

To record the disposition of professional responsibility complaints and to document professional responsibility violations and corrective action taken.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

To federal and state agencies or bar associations charged with licensing and authorizing attorneys to practice law, and to various courts authorizing attorneys to practice before said courts, in order to protect the public and ensure the proper administration of justice.

To current and potential governmental employers during authorized background checks to assist their efforts to protect the public and ensure the proper administration of justice.

The ‘Blanket Routine Uses’ published at the beginning of the Air Force's compilation of systems of records notices apply to this system.

Policies and practices for storing, retrieving, accessing, retaining, and disposing of records in the system:

Storage:

Maintained in file folders, in computer, and on computer output products.

Retrievability:

Retrieved by name of individual.

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Retained in office files for three (3) years after year in which case is closed. Records are destroyed by tearing into pieces, shredding, pulping, macerating or burning. Computer records are destroyed by erasing, deleting or overwriting.

System manager(s) and address:

Office of The Judge Advocate General, Professional Responsibility Administrator, 1420 Air Force Pentagon, Washington, DC 20330-1420.

Notification procedure:

Individuals seeking to determine whether this system of records contains information about themselves should address written inquiries to the Office of The Judge Advocate General, Professional Responsibility Administrator, 1420 Air Force Pentagon, Washington, DC 20330-1420.

Written inquiries should include full name, mailing address, and Social Security Number (SSN).

Record access procedures:

Individuals seeking access to records about themselves contained in this system should address written requests to the Office of The Judge Advocate General, Professional Responsibility Administrator, 1420 Air Force Pentagon, Washington, DC 20330-1420.

Written inquiries should include full name, mailing address, and Social Security Number (SSN).

Contesting record procedures:

The Air Force rules for accessing records, and for contesting contents and appealing initial agency determinations, are published in Air Force Instruction 37-132; 32 CFR part 806b; or may be obtained from the system manager.

Record source categories:

Information is received from individuals; federal, state and local authorities; other Air Force records; state bar records; law enforcement records; educational records; complainants; inspectors; witnesses and subjects of inquiries.

Exemptions claimed for the system:

Exemption (k)(2), 5 U.S.C. 552a. Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identity of a confidential source.

F051 AF JA B

System name:

Confidential Financial Disclosure Report. (December 15, 2008, 73 FR 76013)

Changes:

Change System ID to “F051 AFJA F.”

* * * * *

F051 AFJA F

System name:

Confidential Financial Disclosure Report.

System location:

Office of the General Counsel, Office of the Secretary of the Air Force, 1740 Air Force Pentagon, Washington, DC 20330-1740; The Judge Advocate General, Headquarters United States Air Force, 1420 Air Force Pentagon, Washington, DC 20330-1420; Headquarters of major commands and at all levels down to and including Air Force installations, and unified commands for which Air Force is Executive Agent. Official mailing addresses are published as an appendix to the Air Force's compilation of systems of records notices.

Categories of individuals covered by the system:

Civilian personnel; Air Force military personnel in the rank of colonel or below whose basic duties and responsibilities require the exercise of judgment on Government decision making or taking action on (1) the administering or monitoring of grants or subsidies, (2) contracting or procurement, (3) auditing, or (4) any other government activity in which the final decision or action has a significant economic impact on the interest of any non-federal enterprise; and special Government employees who are ‘advisors’ or ‘consultants.’ Army, Navy, Air Force, and Marine Corps active duty personnel and civilian employees in the same categories when assigned to headquarters of unified and specified commands for which Air Force is Executive Agent.

Categories of records in the system:

Contains the individual's name, Social Security Number (SSN), title of the individual's position, date of appointment in present position, agency and major organization segment of the position, employment and financial interests, creditors, interest in real property, a list of persons from whom information can be obtained concerning the individual's financial situation, supervisor's evaluation, and Standards of Conduct Counselor/Deputy Counselor review.

Authority for maintenance of the system:

10 U.S.C. 8013, Secretary of the Air Force, 10 U.S.C. 8037, Judge Advocate General; Title I of the Ethics in Government Act of 1978 (5 U.S.C. App.); E.O. 12674, Principles of Ethical Conduct for Government Officers and Employees; 5 CFR part 2634; and E.O. 9397 (SSN).

Purpose(s):

Used in order to determine potential or actual conflicts of interest in the performance of official duties.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The DoD `Blanket Routine Uses' published at the beginning of the Air Force's compilation of systems of records notices apply to this system.

Policies and practices for storing, retrieving, accessing, retaining, and disposing of records in the system:

Storage:

Papers records in file folders and electric storage media.

Retrievability:

Retrieved by name or Social Security Number (SSN).

Safeguards:

Records are accessed by authorized personnel as necessary to accomplish their official duties. Paper records are stored in locked rooms and cabinets. The computer storage devices are protected by computer system software.

Retention and disposal:

Retained for six years after which they shall be disposed of, unless needed in an ongoing investigation. Those records retained for an ongoing investigation will be disposed of when no longer needed in the investigation. Paper records are disposed of by tearing into pieces, shredding, pulping, macerating or burning. Computer records are destroyed by deleting, erasing, degaussing, or by overwriting.

System manager(s) and address:

The Assistant General Counsel for Civilian Personnel and Fiscal Law, Office of the General Counsel, Office of the Secretary of the Air Force, 1740 Air Force Pentagon, Washington, DC 20330-1740

The Judge Advocate General, Headquarters United States Air Force, 1420 Air Force Pentagon, Washington, DC 20330-1420.

Notification procedure:

Individuals seeking to determine whether this system of records contains information on themselves should address written inquiries to or visit the system manager or Deputy Standards of Conduct Counselor at any system location.

Written inquiries should include a full name, Social Security Number (SSN), address, daytime telephone number and a signature.

Record access procedures:

Individuals seeking to access records about themselves contained in this system should address written requests to the system manager or Deputy Standards of Conduct Counselor at any system location.

Written inquiries should include a full name, Social Security Number (SSN), address, daytime telephone number and a signature.

Contesting record procedures:

The Air Force rules for accessing records, and for contesting contents and appealing initial agency determinations are published in Air Force Instruction 33-332; 32 CFR part 806b; or may be obtained from the system manager.

Record source categories:

Information is obtained from the individual or from personnel designated by the individual.

Exemptions claimed for the system:

None.

F051 AF JA C

System name:

Legal Assistance Administration Records. (November 17, 2008, 73 FR 67843).

Changes:

Change System ID to “F051 AFJA G.”

* * * * *

F051 AFJA G

System name:

Legal Assistance Administration Records.

System location:

The Judge Advocate General, Headquarters United States Air Force, 1420 Air Force Pentagon, Washington, DC 20330-1420-1420. At Headquarters of major commands and at all levels down to and including Air Force installations.

Official mailing addresses are published as an appendix to the Air Force's compilation of record systems notices.

Categories of individuals covered by the system:

Active duty and retired military personnel, and their dependents and Air Force civilian personnel stationed overseas.

Categories of records in the system:

Individual's name, Social Security Number (SSN), financial records, personnel files, leases, tax documents, personal letters and documents, and all other information necessary to provide advice and assistance to personnel seeking legal assistance.

Authority for maintenance of the system:

10 U.S.C. 8013, Secretary of the Air Force; 10 U.S.C. 8037, Judge Advocate General, Deputy Judge Advocate General: Appointment and duties; Air Force Instruction 51-504, Legal Assistance, Notary, and Preventive law Programs; and E.O. 9397(SSN).

Purpose(s):

Records are used and maintained to provide continuing legal assistance to clients; by Department of Defense employees to complete their official duties; to manage the legal assistance program; and used to assist the client with personal legal issues.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Paper records in file folders and electronic storage media.

Retrievability:

Retrieved by name or Social Security Number (SSN).

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Retained in office files until superseded, obsolete, no longer needed for reference, or on inactivation, then destroyed by tearing into pieces, shredding, pulping, macerating, or burning. Computer records are destroyed by erasing, deleting or overwriting.

System manager(s) and address:

The Judge Advocate General, Headquarters, United States Air Force, 1420 Air Force Pentagon, Washington, DC 20330-1420.

Notification procedure:

Individuals seeking to determine whether this system of records contains information on themselves should address written inquiries to The Judge Advocate General, Headquarters United States Air Force, 1420 Air Force Pentagon, Washington, DC 20330-1420.

Requests should include name and Social Security Number (SSN).

Record access procedures:

Individuals seeking to access records about themselves contained in this system should address written requests to The Judge Advocate General, Headquarters United States Air Force, 1420 Air Force Pentagon, Washington, DC 20330-1420.

Requests should include name and Social Security Number (SSN).

Contesting record procedures:

The Air Force rules for accessing records, and for contesting contents and appealing initial agency determinations are published in Air Force Instruction 37-132; 32 CFR part 806b; or may be obtained from the system manager.

Record source categories:

From the individual.

Exemptions claimed for the system:

None.

F051 AF JA D

System name:

Litigation Records (Except Patents) (December 15, 2008, 73 FR 76010).

Changes:

Change System ID to “F051 AFJA H.”

* * * * *

F051 AFJA H

System name:

Litigation Records (Except Patents).

System location:

The Judge Advocate General, Headquarters United States Air Force, 1420 Air Force Pentagon, Washington, DC 20330-1420. At Headquarters of Major Commands and all levels down to and including Air Force installations worldwide. Official mailing addresses are published as an appendix to the Air Force's compilation of systems of records notices.

Categories of individuals covered by the system:

All individuals who have brought suit against, or been involved in litigation with, the United States or its officers or employees concerning matters related to the Department of the Air Force; persons against whom litigation has been filed under 28 U.S.C. 1346b, 31 U.S.C. 3702, 42 U.S.C. 2651-3, and 46 U.S.C. App. 741-52; dependents, witnesses, and other persons providing information during the course of litigation.

Categories of records in the system:

All records required to defend the Department of the Air Force in litigation, to include: Litigants' names; Social Security Numbers (SSN); court pleadings; reports from Department of Defense offices, state and federal agencies; foreign governments; witness statements; surveys; contracts; photographs; legal opinions; personnel, finance, medical, and business records; audits; English translations of foreign documents; and environmental planning documents (including environmental impact statements).

Authority for maintenance of the system:

10 U.S.C. 8013, Secretary of the Air Force, 10 U.S.C. 8037, Judge Advocate General, Air Force Instruction 51-301, Civil Litigation and E.O. 9397 (SSN).

Purpose(s):

Used by officers, employees and members of the Air Force to represent the United States in civil litigation; to enable the United States and its officers, employees and members who are counsel for, parties to, or otherwise involved in an official capacity in civil domestic or foreign litigation to obtain information from or consult with other governmental, corporate and private organizations, entities and individuals regarding litigation decisions to be made by The Judge Advocate General and the Department of Justice; to obtain information from or consult with other governmental, corporate and private organizations, entities and individuals in order to create structured settlement proposals; by the Air Force Audit Agency in conducting audits; by the Air Force Board for Correction of Military Records; and by the Defense Finance and Accounting Service and any Air Force financial management office and its officers and employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Court of Federal Claims on legislative referral of private relief bills;

To the Department of Veterans Affairs and its officers and employees to adjudicate claims.

The DoD ‘Blanket Routine Uses’ published at the beginning of the Air Force's compilation of systems of records notices apply to this system.

Policies and practices for storing, retrieving, accessing, retaining, and disposing of records in the system:

Storage:

Paper records in file folders and electronic storage media.

Retrievability:

Retrieved by name of litigant, Social Security Number (SSN) and year of litigation.

Safeguards:

Records are accessed by authorized personnel as necessary to accomplish their official duties. Paper records are stored in locked rooms and cabinets. The computer storage devices are protected by computer system software.

Retention and disposal:

Records located at AFLOA/JACL are retired permanently to the Washington National Records Center, Washington, DC 20409-0001. Other command levels dispose of records after two years upon completion of agency action. Files maintained in accordance with 42 U.S.C. 2651-3 are disposed of after two years. Medical malpractice litigation files are retired to the Armed Forces Institute of Pathology. Paper records are disposed of by tearing into pieces, shredding, macerating, pulping, or burning. Computer records are destroyed by deleting, erasing, degaussing, or by overwriting.

System manager(s) and address:

The Judge Advocate General, Headquarters United States Air Force, 1420 Air Force Pentagon, Washington, DC 20330-1420; or to the Staff Judge Advocate at the concerned subordinate command or installation.

Notification procedure:

Individuals seeking to determine whether information about themselves is contained in this system should address written inquiries to The Judge Advocate General, Headquarters United States Air Force, 1420 Air Force Pentagon, Washington, DC 20330-1420; or to the Staff Judge Advocate at the concerned subordinate command or installation.

Written requests should be signed and include full name and proof of identity.

Record access procedures:

Individuals seeking access to information about themselves contained in this system should address written inquiries to The Judge Advocate General, Headquarters United States Air Force, 1420 Air Force Pentagon, Washington, DC 20330-1420; or to the Staff Judge Advocate at the concerned subordinate command or installation.

Written requests should be signed and include full name and proof of identity.

Contesting record procedures:

The Air Force rules for accessing records, and for contesting contents and appealing initial agency determinations are published in Air Force Instruction 33-332; 32 CFR part 806b; or may be obtained from the system manager.

Record source categories:

Court records, transcripts of depositions and other hearings, correspondence initiated by parties to litigation, information provided through witness interviews or other discovery methods, reports prepared by or on behalf of the Air Force, reports of Federal, state, local or foreign government agencies and information obtained from witnesses and claimants.

Exemptions claimed for the system:

None.

F051 AF JA F

System name:

Courts-martial and Article 15 Records. (December 8, 2008, 73 FR 74472)

Changes:

Change System ID to “F051 AFJA I.”

* * * * *

F051 AFJA I

System name:

Courts-martial and Article 15 Records.

System location:

Primary Location: The Judge Advocate General, Headquarters United States Air Force, 1420 Air Force Pentagon, Washington, DC 20330-1420.

Secondary Locations: Headquarters Air Force Personnel Center, 550 C Street W, Randolph Air Force Base, TX 78150-4746.

Washington National Records Center, 4205 Suitland Road, Suitland, MD 20746-8001.

Headquarters of Air Force major commands and all levels down to and including Air Force installations. Official mailing addresses are published as an appendix to the Air Force's compilation of systems of records notices.

Categories of individuals covered by the system:

Individuals subject to the Uniform Code of Military Justice (10 U.S.C. 802, Art. 2. Persons subject).

Categories of records in the system:

Individual's name, Social Security Number (SSN), records of trial by courts-martial; records of Article 15 punishment; discharge proceedings; documents received or prepared in anticipation of administrative non-judicial and judicial proceedings; witness statements; police reports; other reports and records from local, state or federal agencies.

Authority for maintenance of the system:

10 U.S.C. 8013, Secretary of the Air Force; 10 U.S.C. 8037, Judge Advocate General; 10 U.S.C. 815, Art. 15 Commanding officer's nonjudicial punishment; 10 U.S.C. 854, Record of Trial; 10 U.S.C. 938, Art. 138. Complaints of wrongs; Air Force Instruction 51-201, Administration of Military Justice; Air Force Instruction 51-202, Law—Nonjudicial Punishment; and E.O. 9397 (SSN).

Purpose(s):

Records are used to investigate, adjudicate and prosecute adverse action cases, Article 138 complaints, and for other investigations, as necessary. For review by appellate and other authorities; for use for official purposes by Department of Defense personnel. Also used as source documents for collection of statistical information and used to manage cases and case processing.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

Records from this system may be disclosed to other federal agencies and federal courts for official purposes, to include a determination of rights and entitlements of individuals concerned or the government.

The records may also be disclosed to a governmental board or agency or health care professional society or organization if such record or document is needed to perform licensing or professional standards monitoring; to medical institutions or organizations for official purposes, wherein the individual has applied for or been granted authority or employment to provide health care services if such record or document is needed to assess the professional qualifications of such member.

To victims and witnesses of a crime for the purposes of providing information consistent with the requirements of the Victim and Witness Assistance Program and the Victims' Rights and Restitution Act of 1990.

The DoD ‘Blanket Routine Uses’ set forth at the beginning of the Air Force's compilation of systems of records notices apply to this system.

Policies and practices for storing, retrieving, accessing, retaining, and disposing of records in the system:

Storage:

Paper records in file folders and electronic storage media.

Retrievability:

Individual's name, Social Security Number (SSN) or Military Service Number.

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Courts-martial records are retained in office files for 2 years following date of final action and then retired as permanent.

General and special courts-martial records are retired to the Washington National Records Center, Washington, DC 20409-0002;

Summary courts-martial and Article 15 records are retained in office files for 3 years or until no longer needed, whichever is later, and then retired as permanent.

Summary courts-martial and Article 15 records are forwarded to the Air Force Personnel Center for filing in the individual's permanent master personnel record.

Records received or prepared in anticipation of judicial and non-judicial Uniform Code of Military Justice or discharge proceedings, and data maintained on Judge Advocate's computer storage are maintained until action is final or no longer needed.

Paper records are disposed of by tearing into pieces, shredding, pulping, macerating or burning. Computer records are destroyed by deleting, erasing, degaussing, or by overwriting.

System manager(s) and address:

The Judge Advocate General, Headquarters United States Air Force, 1420 Air Force Pentagon, Washington, DC 20330-1420.

Notification procedure:

Individuals seeking to determine whether information about themselves is contained in this system of records should address written inquiries to The Judge Advocate General, Headquarters United States Air Force, 1420 Air Force Pentagon, Washington, DC 20330-1420.

Individuals should provide their full name, Social Security Number (SSN), Unit of assignment, date of trial and type of court, date of discharge action, and date of punishment imposed in the case of Article 15 action may also be necessary, as appropriate.

Record access procedures:

Individuals seeking to access records about themselves contained in this system of records should address written inquiries to The Judge Advocate General, Headquarters United States Air Force, 1420 Air Force Pentagon, Washington, DC 20330-1420.

Individuals should provide their full name, Social Security Number (SSN), Unit of assignment, date of trial and type of court, date of discharge action, and date of punishment imposed in the case of Article 15 action may also be necessary, as appropriate.

Contesting record procedures:

The Air Force rules for accessing records, and for contesting contents and appealing initial agency determinations are published in Air Force Instruction 33-332; 32 CFR part 806b; or may be obtained from the system manager.

Record source categories:

Information from almost any source can be included if it is relevant and material to the proceedings. These include, but are not limited to witness statements; police reports; reports from local, state, and federal agencies; information submitted by an individual making an Article 138 complaint; Inspector General investigations and commander directed inquiries.

Exemptions claimed for the system:

Portions of this system may be exempt pursuant to 5 U.S.C. 552a(j)(2) if the information is compiled and maintained by a component of the agency that performs as its principle function any activity pertaining to the enforcement of criminal laws from the following subsections of 5 U.S.C. 552a(c)(3), (c)(4), (d), (e)(1), (e)(2), (e)(3), (e)(4)(G), (H) and (I), (e)(5), (e)(8), (f), and (g).

Records compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identify of a confidential source from the following subsections of 5 U.S.C. 552a(c)(3), (d), (e)(1), (e)(4)(G), (H) and (I), and (f).

Note: When claimed, this exemption allows limited protection of investigative reports maintained in a system of records used in personnel or administrative actions.

An exemption rule for this record system has been promulgated in accordance with the requirements of 5 U.S.C. 553(b)(1), (2), and (3), (c) and (e) and published in 32 CFR part 806b. For additional information contact the system manager.

F051 AF JA H

System name:

Claims Records. (November 12, 2008, 73 FR 66867).

Changes:

Change System ID to “F051 AFJA J.”

* * * * *

F051 AFJA J

System name:

Claims Records.

System location:

The Judge Advocate General, Headquarters United States Air Force, 1420 Air Force Pentagon, Washington, DC 20330-1420. Headquarters of major commands and at all levels down to and including Air Force installations. Official mailing addresses are published as an appendix to the Air Force's compilation of systems of records notices.

Categories of individuals covered by the system:

Individuals filing administrative claims against the Air Force or against whom the Air Force has filed an administrative claim.

Categories of records in the system:

All records necessary to adjudicate a claim, to include reports from other DoD offices; federal and state agencies; foreign governments; and witness statements.

Authority for maintenance of the system:

10 U.S.C. 8013, Secretary of the Air Force; U.S.C. 8037, Judge Advocate General, Deputy Judge Advocate General: Appointment and duties; Air Force Instruction 51-501, Tort Claims; Air Force Instruction 51-502, Personnel and Government Recovery Claims and E.O. 9397 (SSN).

Purpose(s):

Records are used for claims adjudication and processing, budgeting, and management of claims. Records are also used as necessary in civil litigation involving the United States.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To any other federal agency for the purpose of adjudicating claims and civil litigation.

To state and local entity for the purpose of claims processing and civil litigation involving the Air Force.

To any person or entity for the purpose of completing the Air Force's structured settlements.

To foreign governments and courts, carriers and their insurance companies for all purposes involving the investigation and payment of claims filed against the Air Force or in which the Air Force is an interested party.

The ‘Blanket Routine Uses’ published at the beginning of the Air Force's compilation of systems of records notices apply to this system.

Policies and practices for storing, retrieving, accessing, retaining, and disposing of records in the system:

Storage:

Paper records in file folders and on electronic storage media.

Retrievability:

Retrieved by name, Social Security Number (SSN) and/or claim number.

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Retained in office either one or two years depending upon type of claim, then destroyed after four additional years at staging area; after agency action completed others are held one, three, five years or ten years, depending on the type of claim and type of record. Paper files are disposed of by tearing into pieces, shredding, pulping, macerating, or burning. Computer records are destroyed by deleting, erasing, degaussing, or by overwriting.

System manager(s) and address:

The Judge Advocate General, Headquarters United States Air Force, 1420 Air Force Pentagon, Washington, DC 20330-1420.

Notification procedure:

Individuals seeking to determine whether information about themselves is contained in this system should address written inquiries to the Judge Advocate General, Headquarters United States Air Force, 1420 Air Force Pentagon, Washington, DC 20330, or to the Staff Judge Advocate at the concerned subordinate command or installation.

Requests should include full name and proof of identity, date of incident and claim number, date and type of claim, location of incident may also be required.

Record access procedures:

Individuals seeking access to information about themselves contained in this system should address written inquiries to the Judge Advocate General, Headquarters United States Air Force, 1420 Air Force Pentagon, Washington, DC 20330; or to the Staff Judge Advocate at the concerned subordinate command or installation.

Requests should include full name and proof of identity, date of incident and claim number, date and type of claim, location of incident may also be required.

Contesting record procedures:

The Air Force rules for accessing records, and for contesting contents and appealing initial agency determinations are published in Air Force Instruction 33-332; 32 CFR part 806b; or may be obtained from the system manager.

Record source categories:

Information obtained from federal agency reports, claimants, medical institutions, police and investigating officers, the public media, bureaus of motor vehicles, state or local governments, and witnesses.

Exemptions claimed for the system:

None.

F051 AF JA I

System name:

Commander Directed Inquiries (December 12, 2008, 73 FR 75686)

Changes:

Change System ID to “F051 AFJA K.”

* * * * *

F051 AFJA K

System name:

Commander Directed Inquiries.

System location:

Commander Directed Inquiries are maintained at the installation where the Commander's office is located.

Information copies of a report are kept at the individual's organization and at other organizations which have an interest in a particular incident or problem involving that individual that is addressed in the report. Official Air Force mailing addresses are published as an appendix to the Air Force's compilation of record systems notices.

Categories of individuals covered by the system:

All persons who are the subject of reviews, inquiries, or investigations conducted under the inherent authority of a commander or director. All persons who are the subject of administrative command actions for which another system of records is not applicable.

Categories of records in the system:

Commander directed investigations; letters/transcriptions of complaints, allegations and queries; letters of appointment; reports of reviews, inquiries and investigations with supporting attachments, exhibits and photographs, record of interviews; witness statements; reports of legal review of case files, congressional responses; memoranda; letters and reports of findings and actions taken; letters to complainants and subjects of investigations; letters of rebuttal from subjects of investigations; finance, personnel; administration; adverse information and technical reports; documentation of command action.

Authority for maintenance of the system:

10 U.S.C. 8013, Secretary of the Air Force; 10 U.S.C. 8037, Judge Advocate General; 10 U.S.C. 164, Commanders of Combatant Commands; Air Force Instruction 51-904, Complaints of Wrongs under Article 138, Uniform Code of Military Justice and E.O. 9397 (SSN).

Purpose(s):

Used for thorough and timely resolution and response to complaints, allegations, or queries. May also be used for personnel actions involving civilian or military employees.

Documents received or prepared in anticipation of litigation are used by attorneys for the government to prepare for trials and hearings; to analyze evidence; to prepare for examination of witnesses; to prepare for argument before courts, magistrates, and investigating officers; and to advise commanders.

Routine uses of records maintained in the system, including categories of users and the purpose of such uses:

In addition to those disclosures generally permitted under 5 U.S.C. 552a(b) of the Privacy Act, these records, or information contained therein, may specifically be disclosed outside the DoD as a routine use pursuant to 5 U.S.C. 552a(b)(3) as follows:

To governmental boards or agencies or health care professional societies or organizations, or other professional organizations, if such record or document is needed to perform licensing or professional standards monitoring.

The DoD `Blanket Routine Uses' set forth at the beginning of the Air Force's compilation of systems of records notices apply to this system.

Policies and practices for storing, retrieving, accessing, retaining, and disposing of records in the system:

Storage:

Paper records in file folders and electronic storage media.

Retrievability:

Retrieved by subject's name and/or Social Security Number (SSN).

Safeguards:

Records are accessed by person(s) responsible for servicing the record system in performance of their official duties and by authorized personnel who are properly screened and cleared for need-to-know. Records are stored in locked rooms and cabinets. Those in computer storage devices are protected by computer system software. Computers are only accessible with a password.

Retention and disposal:

Disposed of 2 years after the case is closed. Paper records are disposed of by tearing into pieces, shredding, pulping, macerating or burning. Computer records are destroyed by deleting, erasing, degaussing or by overwriting.

System manager(s) and address:

The Commander who initiated an investigation or that Commander's successor in command, at that Commander's installation office. Official Air Force mailing addresses are published as an appendix to the Air Force's compilation of record systems notices.

Notification procedure:

Individuals seeking to determine whether this system of records contains information about themselves should address written inquiries to the Commander who initiated the investigation, or that Commander's successor, at the Commander's installation office.

Requests should provide their full name, mailing address, and proof of identity.

Record access procedures:

Individuals seeking to access records about themselves contained in this system should address requests to the Commander who initiated the investigation, or that Commander's successor in command, at the Commander's installation office.

Requests should provide their full name, mailing address and proof of identity.

Contesting record procedures:

The Air Force rules for accessing records, and for contesting contents and appealing initial agency determinations, are published in Air Force Instruction 33-332; 32 CFR part 806b; or may be obtained from the system manager.

Record source categories:

Complainants, subjects, reports of investigations, witnesses, third parties, state and local governments and agencies, other federal agencies, members of Congress, and civilian police reports. Information from almost any source can be included if it is relevant and material to the investigation, inquiry, or subsequent command action.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identify of a confidential source.

Note: When claimed, this exemption allows limited protection of investigative reports maintained in a system of records used in personnel or administrative actions.

An exemption rule for this system has been promulgated in accordance with requirements of 5 U.S.C. 553(b)(1), (2), and (3), (c) and (e) published in 32 CFR part 806b. For additional information contact the system manager.

[FR Doc. E8-31044 Filed 12-30-08; 8:45 am]

BILLING CODE 5001-06-P